DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway project on Georgia Street Bridge over University Avenue in the City of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 13, 2013. If the Federal law that authorizes judicial review of a claim provides a time period of less than 150 days for filing such claim, then that shorter time period still applies.

FOR FURTHER INFORMATION CONTACT: For Caltrans: Kevin Hovey, Senior Environmental Planner, Caltrans, 4050 Taylor Street, San Diego, CA 92110, 7 a.m.-3 p.m., 619-688-0240, Kevin_Hovey@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: Retrofit and rehabilitate the Georgia Street Bridge. The project is located within the City of San Diego and the bridge spans University Avenue. The federal aide project number is BRLO-5004(009). The actions by the Federal agency, and the laws under which such actions were taken, are described in the Categorical Exclusion (CE) for the project, approved on February 4th, 2013, and in other documents in the FHWA project records. The CE and other project records are available by contacting Caltrans at the addresses provided above. This notice applies to all Federal agency decisions as of the issuance date of this notice and all laws under which such actions were taken, including but not limited to:

1. Council on Environmental Quality Regulations.

2. National Environmental Policy Act of 1969, as amended, 42 U.S.C. 4321 et seq.

3. Federal-Aid Highway Act of 1970, 23 U.S.C 109.

4. MAP-21, the Moving Ahead for Progress in the 21st Century Act (Pub. L. 112-141).

5. Clean Air Act Amendments of 1990 (CAAA).

6. Clean Water Act of 1977 and 1987.

7. Federal Water Pollution Control Act of 1972 (see Clean Water Act of 1977 & 1987).

8. Noise Control Act of 1972.

9. Safe Drinking Water Act of 1944, as amended.

10. Endangered Species Act of 1973.

11. Executive Order 11990, Protection of Wetlands.

12. Executive Order 13112, Invasive Species.

13. Executive Order 13186, Migratory Birds.

14. Fish and Wildlife Coordination Act of 1934, as amended.

15. Migratory Bird Treaty Act.

16. Wildflowers, Surface Transportation and Uniform Relocation Act of 1987 Section 130.

17. Department of Transportation (DOT) Executive Order 5650.2—Floodplain Management and Protection (April 23, 1979).

18. Title VI of the Civil Rights Act of 1964, as amended.

19. Executive Order 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139(l)(1).

Issued on: February 7, 2013.
Rebecca Bennett,
Director, Local Programs, Federal Highway Administration, Sacramento, California.

[FR Doc. 2013-03307 Filed 2-12-13; 8:45 am]

BILLING CODE 4910-RY-P